DEPARTMENT OF ENERGY

Federal Energy Regulatory Commission

Combined Notice of Filings

Take notice that the Commission has received the following Natural Gas Pipeline Rate and Refund Report filings:

Filings Instituting Proceedings

Docket Numbers: RP15-225-000.

Applicants: Gulf South Pipeline Company, LP.

Description: § 4(d) rate filing per 154.204: Cap Rel Neg Rate Agmt Filing (JW Operating 34690 to QWest 43528) to be effective 12/1/2014.

Filed Date: 12/1/14.

Accession Number: 20141201-5092.

Comments Due: 5 p.m. ET 12/15/14.

Docket Numbers: RP15-226-000.

Applicants: Gulf South Pipeline Company, LP.

Description: § 4(d) rate filing per 154.204: Neg Rate Agmt and Amendment Filing (SW 43521 & ExGen 43198-1) to be effective 12/1/2014.

Filed Date: 12/1/14.

Accession Number: 20141201-5093.

Comments Due: 5 p.m. ET 12/15/14.

Docket Numbers: RP15-227-000.

Applicants: Gulf South Pipeline Company, LP.

Description: § 4(d) rate filing per 154.204: Amendment to Neg Rate Agmts (Santa Rosa 42487-3 & Mobile 42488-3) to be effective 12/1/2014.

Filed Date: 12/1/14.

Accession Number: 20141201-5094.

Comments Due: 5 p.m. ET 12/15/14.

Docket Numbers: RP15-228-000.

Applicants: Gulf South Pipeline Company, LP.

Description: § 4(d) rate filing per 154.204: Cap Rel Neg Rate Agmts (QEP 37657 & 36601 to Trans LA & Texla, various) to be effective 12/1/2014.

Filed Date: 12/1/14.

Accession Number: 20141201-5095.

Comments Due: 5 p.m. ET 12/15/14.

Docket Numbers: RP15-229-000.

Applicants: Rockies Express Pipeline LLC.

Description: § 4(d) rate filing per 154.204: Neg Rate 2012-12-01 A&R BP, Encana, EOG Vanguard CR to be effective 12/1/2014.

Filed Date: 12/1/14.

Accession Number: 20141201-5106.

Comments Due: 5 p.m. ET 12/15/14.

Docket Numbers: RP15-230-000.

Applicants: Texas Gas Transmission, LLC.

Description: § 4(d) rate filing per 154.204: Non-Conforming Agmt due to Perm Rel (JP Morgan 27225 to Mercuria 34366) to be effective 12/1/2014.

Filed Date: 12/1/14.

Accession Number: 20141201-5107.

Comments Due: 5 p.m. ET 12/15/14.

Docket Numbers: RP15-231-000.

Applicants: Iroquois Gas Transmission System, L.P.

Description: § 4(d) rate filing per 154.204: 12/01/14 Negotiated Rates—Castleton Commodities Merchant Trading (RTS) 4010-02 to be effective 12/1/2014.

Filed Date: 12/1/14.

Accession Number: 20141201-5151.

Comments Due: 5 p.m. ET 12/15/14.

Docket Numbers: RP15-232-000.

Applicants: Columbia Gas Transmission, LLC.

Description: § 4(d) rate filing per 154.204: Section 4 Update to be effective 1/1/2015.

Filed Date: 12/1/14.

Accession Number: 20141201-5154.

Comments Due: 5 p.m. ET 12/15/14.

Docket Numbers: RP15-233-000.

Applicants: Iroquois Gas Transmission System, L.P.

Description: § 4(d) rate filing per 154.204: 12/01/14 Negotiated Rates—Mercuria Energy Gas Trading LLC (RTS)—7540-02 to be effective 12/1/2014.

Filed Date: 12/1/14.

Accession Number: 20141201-5252.

Comments Due: 5 p.m. ET 12/15/14.

Docket Numbers: RP15-234-000.

Applicants: Millennium Pipeline Company, LLC.

Description: § 4(d) rate filing per 154.204: Calculation of Reservation Charge Credits & Voluntary Interruption Commitments to be effective 1/1/2015.

Filed Date: 12/1/14.

Accession Number: 20141201-5265.

Comments Due: 5 p.m. ET 12/15/14.

Docket Numbers: RP15-235-000.

Applicants: Midcontinent Express Pipeline LLC.

Description: § 4(d) rate filing per 154.204: Substitute Published Index Prices Filing to be effective 1/1/2015.

Filed Date: 12/1/14.

Accession Number: 20141201-5274.

Comments Due: 5 p.m. ET 12/15/14.

Docket Numbers: RP15-236-000.

Applicants: Midcontinent Express Pipeline LLC.

Description: § 4(d) rate filing per 154.204: Chesapeake Energy Negotiated Rate to be effective 12/1/2014.

Filed Date: 12/1/14.

Accession Number: 20141201-5281.

Comments Due: 5 p.m. ET 12/15/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2014.
Nathaniel J. Davis, Sr.,
Deputy Secretary.

[FR Doc. 2014-28743 Filed 12-8-14; 8:45 am]

BILLING CODE 6717-01-P